DEPARTMENT OF DEFENSE

Department of the Air Force

[Docket No. ARH-221221A-PL]

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive (the field to include outdoor recreation) patent license agreement to Bowerbags, LLC, a corporation of the State of Ohio, having a place of business at 601 East 3rd St., Dayton, Ohio 45402.

DATES: Written objections must be filed no later than fifteen (15) calendar days after the date of publication of this Notice.

ADDRESSES: Submit written objections to Jaclyn Lauren Williams, Technology Business Specialist, 2510 Fifth Street, Bldg. 840, Room 413.30, Wright-Patterson AFB, OH 45433; Phone: (702) 715-4402; or Email: jaclyn.williams.2@us.af.mil. Include Docket No. ARH-221221A-PL in the subject line of the message.

FOR FURTHER INFORMATION CONTACT: Jaclyn Lauren Williams, Technology Business Specialist, 2510 Fifth Street, Bldg. 840, Room 413.30, Wright-Patterson AFB, OH 45433; Phone: (702) 715-4402; or Email: jaclyn.williams.2@us.af.mil.

SUPPLEMENTARY INFORMATION: The Department of the Air Force intends to grant the partially exclusive patent license agreement for the invention described in: U.S. Patent No. 8,857,681 B2, entitled, “Load Carriage Connector and System,” filed March 8, 2013, and issued October 14, 2014.

Abstract of Patent

A load carriage connector and system for rapid mounting and demounting of a user-carried load. The connector utilizes two mating halves comprising a male connector half and a female connector half. The connector is configured to allow mating under various angles of approach, allowing the user to reliably couple the system even under conditions in which the user is unable to view the orientation of the connectors. Additionally, the configuration of the connector system allows the user to quickly and efficiently decouple the connector halves, even while under tensile or shear load.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-16250 Filed 7-31-23; 8:45 am]

BILLING CODE 5001-10-P